NUCLEAR REGULATORY COMMISSION

[Docket No. 72-2]

Notice of Issuance of Renewed Materials License SNM-2501; Virginia Electric and Power Company, Surry Independent Spent Fuel Storage Installation

The U.S. Nuclear Regulatory Commission (NRC or the Commission) has issued renewed Materials License SNM-2501 to Virginia Electric and Power Company (Dominion) for the receipt, possession, transfer, and storage of spent fuel at the Surry Independent Spent Fuel Storage Installation (ISFSI), located in Surry County, Virginia. The renewed license authorizes operation of the Surry ISFSI in accordance with the provisions of the renewed license and its Technical Specifications.

The application for the renewed license complies with the standards and requirements of the Atomic Energy Act of 1954 (the Act), as amended, and the Commission's regulations. The Commission has made appropriate findings as required by the Act and the Commission's rules and regulations in 10 CFR Chapter 1, which are set forth in the license. Public notice of the proposed action and opportunity for hearing regarding the proposed issuance of the renewed license was published in the Federal Register on January 14, 2003 (69 FR 1871).

Supporting documentation is available for inspection at NRC's Public Electronic Reading Room at: http://www.nrc.gov/reading-rm/ADAMS.html. A copy of the license application, dated April 29, 2002 as supplemented October 6, 2003, and the staff's EA, dated February 2005, can be found at this site using the ADAMS accession numbers ML021290068, ML032900118, and ML040560156. Any questions should be referred to Mary Jane Ross-Lee, Spent Fuel Project Office, U.S. Nuclear Regulatory Commission, Washington, DC 20555, Mailstop O13D13, telephone (301) 415-3781; fax number (301) 415-8555.

Dated in Rockville, Maryland, this 25th day of February, 2005.
For the Nuclear Regulatory Commission.
Mary Jane Ross-Lee,
Senior Project Manager, Licensing Section, Spent Fuel Project Office, Office of Nuclear Material Safety and Safeguards.

[FR Doc. 05-4175 Filed 3-3-05; 8:45 am]

BILLING CODE 7590-01-P